DEPARTMENT OF ENERGY

Federal Energy Regulatory Commission

Combined Notice of Filings #2

Take notice that the Commission received the following electric corporate filings:

Docket Numbers: EC13-53-000.

Applicants: LWP Lessee, LLC.

Description: LWP Lessee, LLC submits supplemental statement to support Application for Approval Under Section 203 of the Federal Power Act.

Filed Date: 12/28/12.

Accession Number: 20121228-5146.

Comments Due: 5 p.m. ET 1/16/13.

Docket Numbers: EC13-54-000.

Applicants: Alpaugh 50, LLC, Alpaugh North, LLC.

Description: Application for Authorization under Section 203 of the Federal Power Act and Request for Waivers and Expedited Action of Alpaugh 50, LLC, et al.

Filed Date: 12/28/12.

Accession Number: 20121228-5166.

Comments Due: 5 p.m. ET 1/18/13.

Take notice that the Commission received the following electric rate filings:

Docket Numbers: ER10-2721-003.

Applicants: El Paso Electric Company.

Description: El Paso Electric Company submits its triennial demonstration of the absence of market power.

Filed Date: 12/28/12.

Accession Number: 20121228-5122.

Comments Due: 5 p.m. ET 2/26/13.

Docket Numbers: ER10-3079-004; ER12-126-006.

Applicants: Tyr Energy, LLC, Trademark Merchant Energy, LLC.

Description: Updated Market Power Analysis for the Southwest Power Pool Region of Tyr Energy, LLC, et al.

Filed Date: 12/28/12.

Accession Number: 20121228-5167.

Comments Due: 5 p.m. ET 2/26/13.

Docket Numbers: ER12-60-004; ER10-1632-004; ER10-1597-002; ER10-1624-002; ER10-1585-002; ER10-1594-002; ER10-1617-002; ER10-1628-002.

Applicants: Tenaska Power Management, LLC, Tenaska Power Services Co., Kiowa Power Partners, LLC, California Electric Marketing, LLC, New Mexico Electric Marketing, LLC, Tenaska Gateway Partners, Ltd., Alabama Electric Marketing, LLC, Texas Electric Marketing, LLC.

Description: Updated Market Power Analysis of Tenaska Power Management, LLC, et al.

Filed Date: 12/27/12.

Accession Number: 20121227-5117.

Comments Due: 5 p.m. ET 2/25/13.

Docket Numbers: ER13-17-000.

Applicants: Niagara Wind Power, LLC.

Description: Niagara Wind Power, LLC submits tariff filing per 35.19a(b): Refund Report to be effective N/A.

Filed Date: 12/28/12.

Accession Number: 20121228-5099.

Comments Due: 5 p.m. ET 1/18/13.

Docket Numbers: ER13-448-001.

Applicants: Arizona Public Service Company.

Description: Compliance Filing to Rate Schedule Nos. 242 and 244 to be effective 1/22/2013.

Filed Date: 12/28/12.

Accession Number: 20121228-5078.

Comments Due: 5 p.m. ET 1/18/13.

Docket Numbers: ER13-639-000.

Applicants: Broken Bow Wind, LLC.

Description: Triennial Market Power Analysis for the SPP Region to be effective 12/29/2012.

Filed Date: 12/28/12.

Accession Number: 20121228-5050.

Comments Due: 5 p.m. ET 2/26/13.

Docket Numbers: ER13-640-000.

Applicants: Crofton Bluffs Wind, LLC.

Description: Triennial Market Power Analysis for the SPP Region to be effective 12/29/2012.

Filed Date: 12/28/12.

Accession Number: 20121228-5051.

Comments Due: 5 p.m. ET 2/26/13.

Docket Numbers: ER13-641-000.

Applicants: Elkhorn Ridge Wind, LLC.

Description: Triennial Market Power Analysis for the SPP Region to be effective 12/29/2012.

Filed Date: 12/28/12.

Accession Number: 20121228-5052.

Comments Due: 5 p.m. ET 2/26/13.

Docket Numbers: ER13-642-000.

Applicants: Laredo Ridge Wind, LLC.

Description: Triennial Market Power Analysis for the SPP Region to be effective 12/29/2012.

Filed Date: 12/28/12.

Accession Number: 20121228-5053.

Comments Due: 5 p.m. ET 2/26/13.

Docket Numbers: ER13-643-000.

Applicants: Taloga Wind, LLC.

Description: Triennial Market Power Analysis for the SPP Region to be effective 12/29/2012.

Filed Date: 12/28/12.

Accession Number: 20121228-5054.

Comments Due: 5 p.m. ET 2/26/13.

Docket Numbers: ER13-644-000.

Applicants: San Juan Mesa Wind Project, LLC.

Description: Triennial Market Power Analysis for the SPP Region to be effective 12/29/2012.

Filed Date: 12/28/12.

Accession Number: 20121228-5055.

Comments Due: 5 p.m. ET 2/26/13.

Docket Numbers: ER13-645-000.

Applicants: Public Service Company of Colorado.

Description: 2012-12-27-NSP-Tran-to Load-Master Agrmts-544 to be effective 1/1/2013.

Filed Date: 12/28/12.

Accession Number: 20121228-5056.

Comments Due: 5 p.m. ET 1/18/13.

Docket Numbers: ER13-646-000.

Applicants: Sleeping Bear, LLC.

Description: Triennial Market Power Analysis for the SPP Region to be effective 12/29/2012.

Filed Date: 12/28/12.

Accession Number: 20121228-5058.

Comments Due: 5 p.m. ET 2/26/13.

Docket Numbers: ER13-647-000.

Applicants: CL Power Sales Eight, L.L.C.

Description: Triennial Market Power Analysis for the SPP Region to be effective 12/29/2012.

Filed Date: 12/28/12.

Accession Number: 20121228-5062.

Comments Due: 5 p.m. ET 2/26/13.

Docket Numbers: ER13-648-000.

Applicants: CP Power Sales Nineteen, L.L.C.

Description: Triennial Market Power Analysis for the SPP Region to be effective 12/29/2012.

Filed Date: 12/28/12.

Accession Number: 20121228-5068.

Comments Due: 5 p.m. ET 2/26/13.

Docket Numbers: ER13-649-000.

Applicants: CP Power Sales Seventeen, L.L.C.

Description: Triennial Market Power Analysis for the SPP Region to be effective 12/29/2012.

Filed Date: 12/28/12.

Accession Number: 20121228-5073.

Comments Due: 5 p.m. ET 2/26/13.

Docket Numbers: ER13-650-000.

Applicants: CP Power Sales Twenty, L.L.C.

Description: Triennial Market Power Analysis for the SPP Region to be effective 12/29/2012.

Filed Date: 12/28/12.

Accession Number: 20121228-5074.

Comments Due: 5 p.m. ET 2/26/13.

Docket Numbers: ER13-651-000.

Applicants: Edison Mission Marketing & Trading, Inc.

Description: Triennial Market Power Analysis for the SPP Region to be effective 12/29/2012.

Filed Date: 12/28/12.

Accession Number: 20121228-5075.

Comments Due: 5 p.m. ET 2/26/13.

Docket Numbers: ER13-652-000.

Applicants: Edison Mission Solutions, LLC.

Description: Triennial Market Power Analysis for the SPP Region to be effective 12/29/2012.

Filed Date: 12/28/12.

Accession Number: 20121228-5076.

Comments Due: 5 p.m. ET 2/26/13.

Docket Numbers: ER13-653-000.

Applicants: Wildorado Wind, LLC.

Description: Wildorado Wind, LLC submits tariff filing per 35.37: Triennial Market Power Analysis for the SPP Region to be effective 12/29/2012.

Filed Date: 12/28/12.

Accession Number: 20121228-5077.

Comments Due: 5 p.m. ET 2/26/13.

Docket Numbers: ER13-654-000.

Applicants: Southwestern Public Service Company.

Description: 2012-12-28-GSEC-SCEC-Kress-CA-654-0.0.0-Filing to be effective 12/28/2012.

Filed Date: 12/28/12.

Accession Number: 20121228-5082.

Comments Due: 5 p.m. ET 1/18/13.

Docket Numbers: ER13-655-000.

Applicants: Public Service Company of Colorado.

Description: 2012-12-27-NSP-Tran-to Load-Master Agrmts-546 to be effective 1/1/2013.

Filed Date: 12/28/12.

Accession Number: 20121228-5084.

Comments Due: 5 p.m. ET 1/18/13.

Docket Numbers: ER13-656-000.

Applicants: Public Service Company of Colorado.

Description: Public Service Company of Colorado submits tariff filing per 35.13(a)(2)(iii): 2012-12-27-NSP-Tran-to Load-Master Agrmts-549 to be effective 1/1/2013.

Filed Date: 12/28/12.

Accession Number: 20121228-5098.

Comments Due: 5 p.m. ET 1/18/13.

Docket Numbers: ER13-657-000.

Applicants: Public Service Company of Colorado.

Description: Public Service Company of Colorado submits tariff filing per 35.13(a)(2)(iii): 2012-12-27-NSP-Tran-to Load-Master Agrmts-550 to be effective 1/1/2013.

Filed Date: 12/28/12.

Accession Number: 20121228-5116.

Comments Due: 5 p.m. ET 1/18/13.

Docket Numbers: ER13-658-000.

Applicants: Southern California Edison Company.

Description: Southern California Edison Company submits tariff filing per 35.13(a)(2)(iii): Amendment to Extend Terms of Eldorado Co-Tenancy and Communication Agreement to be effective 1/1/2013.

Filed Date: 12/28/12.

Accession Number: 20121228-5118.

Comments Due: 5 p.m. ET 1/18/13.

Docket Numbers: ER13-659-000.

Applicants: Coso Geothermal Power Holdings, LLC.

Description: Coso Geothermal Power Holdings, LLC submits tariff filing per 35.13(a)(2)(iii): First Revised MBR to be effective 12/29/2012.

Filed Date: 12/28/12.

Accession Number: 20121228-5120.

Comments Due: 5 p.m. ET 1/18/13.

Docket Numbers: ER13-660-000.

Applicants: Avista Corporation.

Description: Avista Corporation submits tariff filing per 35.13(a)(2)(iii): Avista—BPA Parallel Operation Agreement to be effective 12/31/2012.

Filed Date: 12/28/12.

Accession Number: 20121228-5136.

Comments Due: 5 p.m. ET 1/18/13.

Docket Numbers: ER13-661-000.

Applicants: Southwest Power Pool, Inc.

Description: Southwest Power Pool, Inc. submits tariff filing per 35: FERC Order No. 741 Integrated Marketplace Compliance Filing to be effective 3/1/2014.

Filed Date: 12/28/12.

Accession Number: 20121228-5150.

Comments Due: 5 p.m. ET 1/18/13.

Docket Numbers: ER13-662-000.

Applicants: Southwest Power Pool, Inc.

Description: Southwest Power Pool, Inc. submits tariff filing per 35.13(a)(2)(iii): 1066R4 Northeast Texas Electric Cooperative, Inc. NITSA NOA to be effective 12/1/2012.

Filed Date: 12/28/12.

Accession Number: 20121228-5151.

Comments Due: 5 p.m. ET 1/18/13.

Docket Numbers: ER13-663-000.

Applicants: Public Service Company of Colorado.

Description: Public Service Company of Colorado submits tariff filing per 35.13(a)(2)(iii): 2012-12-27-NSP-Tran-to Load-Master Agrmts-541 to be effective 1/1/2013.

Filed Date: 12/28/12.

Accession Number: 20121228-5158.

Comments Due: 5 p.m. ET 1/18/13.

Docket Numbers: ER13-664-000.

Applicants: Southwest Power Pool, Inc.

Description: Southwest Power Pool, Inc. submits tariff filing per 35.13(a)(2)(iii): 1518R4 Arkansas Electric Cooperative Corporation NITSA NOA to be effective 12/1/2012.

Filed Date: 12/28/12.

Accession Number: 20121228-5163.

Comments Due: 5 p.m. ET 1/18/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 28, 2012.
Nathaniel J. Davis, Sr.,
Deputy Secretary.

[FR Doc. 2013-00412 Filed 1-10-13; 8:45 am]

BILLING CODE 6717-01-P